DEPARTMENT OF AGRICULTURE

Office of the Chief Economist; Federal Advisory Committee for the Expert Review of Synthesis and Assessment Product 4.3

AGENCY: Office of the Chief Economist, U.S. Department of Agriculture.

ACTION: Notice of meeting.

SUMMARY: The Federal Advisory Committee for the Expert Review of Synthesis and Assessment Product 4.3 (CERSAP) will be meeting in Washington, DC. The U.S. Department of Agriculture (USDA) is the lead agency for Climate Change Science Program Synthesis and Assessment Product 4.3 (SAP 4.3) titled, The Effects of Climate Change on Agriculture, Land Resources, Water Resources, and Biodiversity. CERSAP will provide advice to the Secretary of Agriculture on the conduct of this study.

DATES: CERSAP will convene at 8:30 a.m. on Tuesday June 19th through 3 p.m. on Wednesday, June 20th. Registration will begin at 8 a.m. on each day.

ADDRESSES: CERSAP will meet at the U.S. Department of Agriculture, 1400 Independence Avenue, Washington, DC 20250 in Room #4433. Upon entry, please have Security call 202-720-8651 for mandatory escort. Written materials for CERSAP's consideration prior to the meeting must be received by Dr. Margaret Walsh no later than Friday, June 8, 2007. Written materials may be sent to Dr. Walsh at mwalsh@oce.usda.gov.

FOR FURTHER INFORMATION CONTACT: Dr. Margaret Walsh, Global Change Program Office, U.S. Department of Agriculture, 202-720-9978 or mwalsh@oce.usda.gov.

SUPPLEMENTARY INFORMATION: This is a public meeting. Due to security and space constraints, individuals who would like to attend must RSVP to Dr. Margaret Walsh before Friday June 15, 2007 for access. Written materials for CERSAP's consideration prior to the meeting must be received by Dr. Margaret Walsh no later than Friday June 8, 2007. Individuals may make oral presentations. Those making oral presentations should register in person at the meeting site and must bring with them 25 copies of any materials they would like distributed. Photocopies cannot be made at the meeting site.

More information on CERSAP and on SAP 4.3 may be found online at http://www.usda.gov/oce/global_change/index.htm, http://www.climatescience.gov/Library/sap/sap4-3/default.php, and http://www.sap43.ucar.edu/.

Draft Meeting Agenda

Tuesday June 19, 2007:

A. Welcome and Introduction to CERSAP Procedures and Activities.

B. Introduction to SAP 4.3.

C. Discussion of SAP 4.3.

D. Public Comment.

Wednesday June 20, 2007:

A. Continued Discussion of SAP 4.3.

B. Discussion of Next Steps.

C. Public Comment.

Time will be reserved on each day of the meeting for public comment. Individual presentations will be limited to five minutes. Updates to the meeting agenda can be found online at the URLs listed above.

For information on facilities or services for individuals with disabilities, or to request special assistance at the meeting, please contact Dr. Margaret Walsh. USDA prohibits discrimination on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Keith Collins,
Chief Economist.

[FR Doc. 07-2789 Filed 6-5-07; 8:45 am]

BILLING CODE 3410-19-M